DEPARTMENT OF ENERGY

Federal Energy Regulatory Commission

[Docket No. ER09-1682-005]

New York Independent System Operator, Inc.; Notice of Filings

January 22, 2010.

Take notice that on January 20, 2010, Generation Owners, Attachment E Supplier, and the New York Independent System Operator, Inc. (NYISO), filed in compliance with the Commission's January 15, 2010 Order in this proceeding,¹ revised, redacted public versions of their original filings and pleadings in this proceeding and additional information directed by the Commission.²

¹ New York Independent System Operator, Inc., 130 FERC ¶ 61,029 (2010).

² Foley & Lardner LLP, accession number 20100120-5120; New York ISO, accession numbers 20100120-5119; Steptoe & Johnson LLP accession number 20100120-5114.

Any person desiring to intervene or to protest these filings must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant and all the parties in this proceeding.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible online at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 29, 2010.

Kimberly D. Bose,
Secretary.

[FR Doc. 2010-1975 Filed 1-29-10; 8:45 am]

BILLING CODE 6717-01-P